DEPARTMENT OF THE INTERIOR

National Park Service

Notice of Intent to Repatriate Cultural Items: U.S. Department of the Interior, U.S. Fish and Wildlife Service, Office of Law Enforcement, Albuquerque, NM

AGENCY: National Park Service, Interior.

ACTION: Notice.

Notice is here given in accordance with the Native American Graves Protection and Repatriation Act (NAGPRA), 43 CFR 10.8 (f), of the intent to repatriate cultural items in the possession of the U.S. Department of the Interior, U.S. Fish and Wildlife Service, Office of Law Enforcement, Albuquerque, NM, that meet the definitions of sacred objects and cultural patrimony under 25 U.S.C. 3001.

This notice is published as part of the National Park Service's administrative responsibilities under NAGPRA, 25 U.S.C. 3003 (d)(3). The determinations within this notice are the sole responsibility of the museum, institution, or Federal agency that has control of the cultural items. The National Park Service is not responsible for the determinations within this notice.

The 45 cultural items are 1 cougar foot; 1 small eagle feather; 2 bundles of eagle feathers wrapped in cotton calico and kept in a leather pouch; 7 hair ties with eagle feathers; 1 gourd rattle; 8 wooden talking prayer sticks with eagle feathers; 4 miniature bows with feathers; 4 carved wooden snakes; 2 stone talking sticks wrapped in colored yarn; 1 deerskin bag containing several bags of herbs and a memory aid; 1 deerskin bag containing several bags of herbs, stones, a bandolier adorned with eagle and hawk talons and toes from mammals, and reeds and sticks adorned with migratory bird feathers; 1 leather bag containing 2 talking prayer sticks with eagle and turkey feathers, and 5 hair ties with eagle feathers; 1 bag containing stones, bags of herbs, and beads; 1 medicine bundle containing herbs; 1 bundle of rattles and talking prayer sticks; 2 stone axes or chamajillas; and 7 bull-roarers.

During 1999 and 2000, the U.S. Department of the Interior, U.S. Fish and Wildlife Service, Office of Law Enforcement, Albuquerque, NM, participated in an undercover investigation of several individuals believed to be engaged in the illegal trafficking of Native American cultural items. Federal agents purchased or seized several cultural items as part of the investigation. On September 10, 2002, Joshua Baer and Thomas Cavaliere each pled guilty to three counts of illegal trafficking of Native American cultural items obtained in violation of 18 U.S.C. 1170 (b). On January 3 and February 12, 2003, the U.S. District Court for the District of New Mexico ordered that all items seized during the investigation be forfeited to the U.S. Department of the Interior, U.S. Fish and Wildlife Service, Office of Law Enforcement, Albuquerque, NM, and repatriated to the culturally affiliated Indian tribes. The 45 cultural items are part of the items forfeited to the U.S. Fish and Wildlife Service.

The U.S. Department of the Interior, U.S. Fish and Wildlife Service, Office of Law Enforcement, Albuquerque, NM, prepared a summary of the cultural items obtained during the investigation. The U.S. Department of the Interior, U.S. Fish and Wildlife Service, Office of Law Enforcement, Albuquerque, NM, also consulted with representatives of the Hopi Tribe of Arizona; Navajo Nation, Arizona, New Mexico & Utah; Pueblo of Acoma, New Mexico; Pueblo of Jemez, New Mexico; Pueblo of Laguna, New Mexico; Pueblo of Santo Domingo, New Mexico; and Zuni Tribe of the Zuni Reservation, New Mexico.

Representatives of the Navajo Nation, Arizona, New Mexico & Utah identified all 45 cultural items as ceremonial objects needed for the practice of traditional Navajo religion by present-day adherents. They identified the seven bull-roarers as needed for practice of the Holy Way ceremony. They identified the two chamajillas as "monster slayer's clubs" that are part of a medicine man's bundle. They identified the hair ties as being worn during particular religious ceremonies such as the Holy Way. They identified the two bundles of eagle feathers as needed for the practice of the Holy Way ceremony. They identified the four miniature bows with feathers as needed for the practice of the Holy Way ceremony. The representatives of the Navajo Nation, Arizona, New Mexico & Utah identified all 45 cultural items as the communal property of the tribe as a whole that could not be sold or given away by an individual.

Officials of the U.S. Department of the Interior, U.S. Fish and Wildlife Service, Office of Law Enforcement, Albuquerque, NM, have determined that, pursuant to 25 U.S.C. 3001 (3)(C), the 45 cultural items are specific ceremonial objects needed by traditional Native American religious leaders for the practice of traditional Native American religions by their present-day adherents. Officials of the U.S. Department of the Interior, U.S. Fish and Wildlife Service, Office of Law Enforcement, Albuquerque, NM, have determined that, pursuant to 25 U.S.C. 3001 (3)(D), the 45 cultural items also have ongoing historical, traditional, or cultural importance central to the Native American group or culture itself, rather than property owned by an individual. Officials of the U.S. Department of the Interior, U.S. Fish and Wildlife Service, Office of Law Enforcement, Albuquerque, NM, also have determined that, pursuant to 25 U.S.C. 3001 (2), there is a relationship of shared group identity that can be reasonably traced between the 45 sacred objects/objects of cultural patrimony and the Navajo Nation, Arizona, New Mexico & Utah.

Representatives of any other Indian tribe that believes itself to be culturally affiliated with the sacred objects/objects of cultural patrimony should contact Special Agent Lucinda D. Schroeder, U.S. Fish and Wildlife Service, 4901 Paseo Del Norte, Albuquerque, NM 87113, telephone (505) 828-3064, before August 8, 2003. Repatriation of the sacred objects/objects of cultural patrimony to the Navajo Nation, Arizona, New Mexico & Utah may proceed after that date if no additional claimants come forward.

The U.S. Department of the Interior, U.S. Fish and Wildlife Service, Office of Law Enforcement, Albuquerque, NM, is responsible for notifying the Hopi Tribe of Arizona; Navajo Nation, Arizona, New Mexico & Utah; Pueblo of Acoma, New Mexico; Pueblo of Jemez, New Mexico; Pueblo of Laguna, New Mexico; Pueblo of Santo Domingo, New Mexico; and Zuni Tribe of the Zuni Reservation, New Mexico that this notice has been published.

Dated: June 11, 2003.
John Robbins,
Assistant Director, Cultural Resources.

[FR Doc. 03-17271 Filed 7-8-03; 8:45 am]

BILLING CODE 4310-70-S